DEPARTMENT OF TRANSPORTATION

Federal Aviation Administration

[Summary Notice No. PE-2003-17]

Petition for Exemption; Disposition of Petition Issued

AGENCY: Federal Aviation Administration (FAA), DOT.

ACTION: Notice of disposition of a prior petition.

SUMMARY: Pursuant to FAA's rulemaking provisions governing the application, processing, and disposition of petitions for exemption part 11 of Title 14, Code of Federal Regulations (14 CFR), this notice contains the disposition of a certain petition previously received. The purpose of this notice is to improve the public's awareness of, and participation in, this aspect of FAA's regulatory activities. Neither publication of this notice nor the inclusion or omission of information in the summary is intended to affect the legal status of any petition or its final disposition.

FOR FURTHER INFORMATION CONTACT: Mike Brown, Office of Rulemaking (ARM-1), Federal Aviation Administration, 800 Independence Avenue, SW., Washington, DC 20591. Tel. (202) 267-7653.

This notice is published pursuant to 14 CFR 11.85 and 11.91.

Issued in Washington, DC, on April 8, 2003.
Donald P. Byrne,
Assistant Chief Counsel for Regulations.

Dispositions of Petitions

Docket No.: FAA-2003-14832.

Petitioner: Air Platforms, Inc.

Section of 14 CFR Affected: 14 CFR 21.25(a), 36, and 91.313(e)(1) and (2).

Description of Relief Sought/Disposition: To allow Air Platforms, Inc. to gain a restricted category airworthiness certificate for its English Electric Canberra B.6 airplanes without meeting the noise limits of part 36. In addition, it would have allowed Air Platforms, Inc. to fly its Canberras over densely populated areas and along congested airways.

Denial, 3/26/2003, Exemption No. 8006

[FR Doc. 03-9075 Filed 4-14-03; 8:45 am]

BILLING CODE 4910-13-P